DEPARTMENT OF COMMERCE

[Docket No. 130730666-3877-02]

Privacy Act Altered System of Records

AGENCY: Department of Commerce.

ACTION: Notice; Commerce/Department-20, Biographical Files.

SUMMARY: The Department of Commerce (Commerce) publishes this notice to announce the effective date of a Privacy Act System of Records entitled Commerce/Department-20, Biographical Files. The notice of proposed amendment to this system of records was published in the Federal Register on September 4, 2013.

DATES: The system of records becomes effective on October 28, 2013.

ADDRESSES: For a copy of the system of records please mail requests to Lanetta Gray, U.S. Department of Commerce, Office of the General Counsel, Room 5875 HCHB, 1401 Constitution Avenue NW., Washington, DC 20230.

FOR FURTHER INFORMATION CONTACT: Lanetta Gray, Executive Officer, Office of the General Counsel, 202-482-4683.

SUPPLEMENTARY INFORMATION: On September 4, 2013, the Department of Commerce published a notice requesting comments on a proposed Privacy Act System of Records entitled Commerce/Department-20, Biographical Files (78 FR 171). In that notice, the Department announced its intent to amend that system of records to make certain changes, including retitling the system of records to COMMERCE/DEPARTMENT-20, Biographical Files and Social Networks. The amendment serves to modify the system of records by generally updating the purpose of the system, updating routine uses, and updating practices for electronically storing, retrieving, and safeguarding records in the System. No comments were received in response to the request for comments. By this notice, the Department is adopting the proposed system as final without changes effective October 28, 2013.

Dated: October 22, 2013.
Brenda Dolan,
Freedom of Information and Privacy Act Officer, U.S. Department of Commerce.

[FR Doc. 2013-25420 Filed 10-25-13; 8:45 am]

BILLING CODE 3510-BW-P